DEPARTMENT OF TRANSPORTATION

Federal Motor Carrier Safety Administration

49 CFR Part 367

[Docket No. FMCSA-2022-0001]

RIN 2126-AC51

Fees for the Unified Carrier Registration Plan and Agreement

AGENCY: Federal Motor Carrier Safety Administration (FMCSA), Department of Transportation (DOT).

ACTION: Notice of proposed rulemaking (NPRM); reopening of comment period.

SUMMARY: FMCSA reopens the comment period for its January 24, 2022, NPRM concerning the fees to be collected by the Unified Carrier Registration (UCR) Plan and Agreement for the 2023 year and subsequent registration years. FMCSA received a request for a reopening of the comment period from the Owner-Operator Independent Drivers Association (OOIDA). The Agency finds it is appropriate to reopen the comment period to provide interested parties an opportunity to review comments OOIDA included with its request to reopen the comment period, and certain information provided by the UCR Board in response to a request from FMCSA, after February 23, 2022, the previous deadline for public comments. Therefore, the Agency reopens the record for the submission of comments for 14 days for the limited purpose of allowing comments on the UCR Plan's response.

DATES: The comment period for the NPRM published January 24, 2022, at 87 FR 3489 is reopened for 14 days. Comments must be received on or before June 28, 2022.

ADDRESSES: You may submit comments identified by Docket Number FMCSA-2022-0001 using any of the following methods:

• Federal eRulemaking Portal: Go to https://www.regulations.gov/docket/FMCSA-2022-0001/document. Follow the online instructions for submitting comments.

• Mail: Dockets Operations, U.S. Department of Transportation, 1200 New Jersey Avenue SE, West Building, Ground Floor, Room W12-140, Washington, DC 20590-0001.

• Hand Delivery or Courier: Dockets Operations, U.S. Department of Transportation, 1200 New Jersey Avenue SE, West Building, Ground Floor, Room W12-140, Washington, DC 20590-0001, between 9 a.m. and 5 p.m., Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments, including information collection comments for the Office of Information and Regulatory Affairs, OMB.

FOR FURTHER INFORMATION CONTACT: Mr. Kenneth Riddle, Director, Office of Registration and Safety Information, FMCSA, 1200 New Jersey Avenue SE, Washington, DC 20590-0001, FMCSA-MCRS@dot.gov. If you have questions on viewing or submitting material to the docket, call Dockets Operations at (202) 366-9826.

SUPPLEMENTARY INFORMATION:

I. Public Participation and Request for Comments

A. Submitting Comments

If you submit a comment, please include the docket number for the NPRM (FMCSA-2022-0001), indicate the specific section of the UCR Plan's response (FMCSA-2022-0001-0010) to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/document/FMCSA-2022-0001-0002, click “Comment,” and type your comment into the text box on the following screen.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

Confidential Business Information (CBI)

CBI is commercial or financial information that is both customarily and actually treated as private by its owner. Under the Freedom of Information Act (5 U.S.C. 552), CBI is exempt from public disclosure. If your comments responsive to the UCR Plan's response contain commercial or financial information that is customarily treated as private, that you actually treat as private, and that is relevant or responsive to the UCR Plan's response, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Mr. Brian Dahlin, Chief, Regulatory Evaluation Division, Office of Policy, FMCSA, 1200 New Jersey Avenue SE, Washington DC 20590-0001. Any comments FMCSA receives not specifically designated as CBI will be placed in the public docket for this rulemaking.

B. Viewing Comments and Documents

To view any documents mentioned as being available in the docket, go to https://www.regulations.gov/docket/FMCSA-2022-0001/document and choose the document to review. To view comments, click this NPRM, then click “Browse Comments.” If you do not have access to the internet, you may view the docket online by visiting Dockets Operations in Room W12-140 on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

DOT solicits comments from the public to better inform its regulatory process, in accordance with 5 U.S.C. 553(c). DOT posts these comments, without edit, including any personal information the commenter provides, to www.regulations.gov, as described in the system of records notice (DOT/ALL 14—Federal Docket Management System), which can be reviewed at https://www.govinfo.gov/content/pkg/FR-2008-01-17/pdf/E8-785.pdf.

II. Background

The January 24, 2022, NPRM (87 FR 3489) requested public comment on proposed reductions in the annual registration fees collected from motor carriers, motor private carriers of property, brokers, freight forwarders, and leasing companies for the UCR Plan and Agreement for the 2023 registration year and subsequent registration years.

The comment period for the NPRM closed on February 23, 2022. After that date, FMCSA contacted the UCR Plan and requested additional information to aid Agency deliberations and decision making in response to a comment submitted to the NPRM. The UCR Plan provided the requested information, and FMCSA placed both its request and the UCR Plan's response in the docket. FMCSA received a request from OOIDA to reopen the comment period.¹ OOIDA requested the comment period be reopened for “no less than 60 days” to allow for review and comment on the response submitted by the UCR Plan. The information submitted by the UCR Plan is clearly related to the recommendation for an adjustment in the fees submitted by the UCR Plan, and the comments already received from OOIDA and others. The Agency is limiting the reopening to 14 days so that it can quickly finalize a rule adjusting UCR Plan and Agreement fees prior to the opening of the registration period on October 1, 2022, for the next registration year beginning on January 1, 2023. Accordingly, FMCSA reopens the comment period until June 28, 2022 for the limited purpose of receiving comments on the data and information submitted by the UCR Plan in its response dated May 9, 2022.

¹ Available in the docket for the rulemaking at https://www.regulations.gov/document/FMCSA-2022-0001-0011.

Robin Hutcheson,
Deputy Administrator.

[FR Doc. 2022-12737 Filed 6-13-22; 8:45 am]

BILLING CODE 4910-EX-P